DEPARTMENT OF TRANSPORTATION

Federal Railroad Administration

[Docket Number FRA-2022-0017]

Petition for Modification of Standards and Alternate Compliance

Under part 232 of title 49 Code of Federal Regulations (CFR), this document provides the public notice that on February 8, 2022, the HeritageRail Alliance (HRA) (co-sponsored jointly by the Railroad Passenger Car Alliance (RPCA)) petitioned the Federal Railroad Administration (FRA) for a modification of standards and alternate compliance in accordance with 49 CFR 232.307, Modification of brake test procedures, pertaining to the Federal railroad safety regulations contained at 49 CFR 232.717, Freight and passenger train car brakes. FRA assigned the petition Docket Number FRA-2022-0017.

Specifically, HRA/RPCA requests a modification of standards and alternative compliance pursuant to 49 CFR 232.717(d) using HRA Recommended Practice RP-001-21, which includes proposed alternate compliance methods to fulfill the requirements of § 232.717, Freight and passenger train car brakes.¹ HRA states that many tourist/museum operations employ obsolete equipment types that are not subject to current Association of American Railroads (AAR) Interchange Rules, nor any other currently published maintenance standard, and that in recent years the maintenance of railroad mechanical systems has moved away from prescribed periodic attention to performance based systems, and that the assurance of safety is achieved by employing more frequent periodic testing (primarily single car tests) to detect degradation of performance. Railroads have also identified opportunities to extend service intervals through application of newer materials, and as tourist and excursion equipment is often used infrequently, extended service periods may be warranted. The Recommended Practice includes justification of the reduction of cleaning, oiling, testing, and stenciling periods (an activity that in itself can degrade the performance and service life of the equipment), and provides documentation guides on the operating history to assure compliance with the conditions of the extension.

¹ To view the Recommended Practice, see https://www.regulations.gov/document/FRA-2022-0017-0001.

A copy of the petition, as well as any written communications concerning the petition, is available for review online at www.regulations.gov.

Interested parties are invited to participate in these proceedings by submitting written views, data, or comments.

All communications concerning these proceedings should identify the appropriate docket number and may be submitted at http://www.regulations.gov. Follow the online instructions for submitting comments.

Communications received by May 6, 2022 will be considered by FRA before final action is taken. Pursuant to § 232.307(d), if no comment objecting to the requested modification is received during the 60-day comment period, or if FRA does not issue a written objection to the requested modification, the modification will become effective May 23, 2022.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-04763 Filed 3-4-22; 8:45 am]

BILLING CODE 4910-06-P